DEPARTMENT OF THE INTERIOR

Office of Surface Mining Reclamation and Enforcement

30 CFR Part 913

[SPATS No. IL-097-FOR, Part III]

Illinois Regulatory Program

AGENCY: Office of Surface Mining Reclamation and Enforcement, Interior.

ACTION: Proposed rule; reopening and extension of public comment period on proposed amendment.

SUMMARY: The Office of Surface Mining Reclamation and Enforcement (OSM) is announcing receipt of revisions to a previously proposed amendment to the Illinois regulatory program (Illinois program) under the Surface Mining Control and Reclamation Act of 1977 (SMCRA). Illinois proposed revisions to its program concerning subsidence control, water replacement, adjustment of performance bonds, administrative review, release of performance bonds, siltation structures, impoundments, hydrologic balance, disposal of noncoal mine wastes, revegetation, backfilling and grading, prime farmland, and State inspections. Illinois intends to revise its program to be consistent with the corresponding Federal regulations, to provide additional safeguards, and to improve operational efficiency.

DATES: We will accept written comments until 4:00 p.m., e.s.t., February 29, 2000.

ADDRESSES: Written comments should be mailed or hand delivered to Andrew R. Gilmore, Director, Indianapolis Field Office, at the address listed below.

You may review copies of the Illinois program, the amendment, and all written comments received in response to this document at the addresses listed below during normal business hours, Monday through Friday, excluding holidays. You may receive one free copy of the amendment by contacting OSM's Indianapolis Field Office.

Andrew R. Gilmore, Director, Indianapolis Field Office, Office of Surface Mining, Minton-Capehart Federal Building, 575 North Pennsylvania Street, Room 301, Indianapolis, Indiana 46204-1521, Telephone: (317) 226-6700.

Illinois Department of Natural Resources, Office of Mines and Minerals, Land Reclamation Division, 300 W. Jefferson Street, Suite 300, Springfield, IL 62701, Telephone: (217) 782-4970.

FOR FURTHER INFORMATION CONTACT: Andrew R. Gilmore, Director, Indianapolis Field Office. Telephone: (317) 226-6700. Internet: INFOMAIL@indgw.osmre.gov.

SUPPLEMENTARY INFORMATION:

I. Background on the Illinois Program

On June 1, 1982, the Secretary of the Interior conditionally approved the Illinois program. You can find background information on the Illinois program, including the Secretary's findings, the disposition of comments, and the conditions of approval in the June 1, 1982, Federal Register (47 FR 23883). You can find later actions concerning the Illinois program at 30 CFR 913.15, 913.16, and 913.17.

II. Discussion of the Proposed Amendment

By letter dated August 2, 1999 (Administrative Record No. IL-5044), Illinois sent us an amendment to its program under SMCRA. Illinois sent the amendment in response to our letters dated May 20, 1996, June 17, 1997, October 30, 1997, and January 15, 1999 (Administrative Record Nos. IL-1900, IL-2000, IL-2002, and IL-5036, respectively), that we sent to Illinois under 30 CFR 732.17(c).

We announced receipt of the amendment in the August 17, 1999, Federal Register (64 FR 44674) and invited public comment on its adequacy. The public comment period ended September 16, 1999.

During our review of the amendment, we identified concerns relating to siltation structures, impoundments, performance bonds, and State inspections. We also identified some nonsubstantive editorial errors. We notified Illinois of these concerns and editorial problems by letter dated September 21, 1999 (Administrative Record No. IL-5048). We also separated the amendment into three parts in order to expedite the State program amendment process. Part I concerned revisions to Illinois' regulations relating to subsidence control and water replacement. Because we did not identify any concerns relating to Illinois' revisions for subsidence control and water replacement, we made our final decision on them in a final rule on December 6, 1999 (64 FR 68024). Part II concerned revisions to Illinois' regulations relating to adjustment of performance bond amounts and administrative review. On December 2, 1999, the Department requested that we proceed with our decision on these revisions (Administrative Record No. IL-5049). Because we did not identify any concerns relating to Illinois' revisions for adjustment of performance bond amounts and administrative review, we made our decision on them in a final rule on December 27, 1999 (64 FR 72275). Part III concerns revisions to Illinois' regulations relating to release of performance bonds, siltation structures, impoundments, hydrologic balance, disposal of noncoal mine wastes, revegetation, backfilling and grading, prime farmland, and State inspections. This proposed rule Federal Register document addresses IL-097-FOR, Part III. By letter dated January 27, 2000, Illinois sent us a revised amendment (Administrative Record No. IL-5052).

Illinois proposed minor wording, editorial, punctuation, grammatical, and recodification changes throughout its amendment. Illinois proposed more substantive revisions for the following provisions of its amendment:

A. 62 IAC 1701. Appendix A, Definitions

Illinois removed the following definition of “Institute” because it is no longer applicable to the Illinois program:

“Institute” means the Department of Energy and Natural Resources or such other agency as designated by the Director in accordance with Section 7.03 of the State Act.

B. 62 IAC 1780.25 (Surface Mining) and 1784.16 (Underground Mining) Reclamation Plan: Siltation Structures, Impoundments, Banks, Dams, and Embankments

1. Illinois is revising the introductory paragraphs of its regulations at 62 IAC 1780.25(a) and 1784.16(a) to require that each application include a general plan and a detailed design plan for each proposed siltation structure, water impoundment, and coal processing waste bank, dam, or embankment within the proposed permit area.

2. Illinois is revising the last sentence of 62 IAC 1784.16(a)(2) by replacing the language “does not meet” with the language “meets or exceeds.” The revised sentence reads as follows:

Each detailed design plan for a structure that meets or exceeds the size or other criteria of 30 CFR 77.216(a) shall:

3. Illinois is revising 62 IAC 1780.25(a)(2)(B) and 1784.16(a)(2)(B) to read as follows:

Include any geotechnical investigation, design, and construction requirements for the structure.

4. Illinois is revising 62 IAC 1784.16(a)(3)(B) to read as follows:

Include any design and construction requirements for the structure, including any required geotechnical information.

C. 62 IAC 1800.40 Requirement to Release Performance Bonds

1. By adding the following sentence to 62 IAC 1800.40(a)(1), Illinois clarified that the Department will meet the notification and certification requirements of section 1800.40(a)(2) and (3) when it initiates an application for bond release.

For bond releases initiated by the Department, the Department shall undertake the notification and certification requirements of the applicant under this Section.

2. At 62 IAC 1800.40(b)(2), Illinois added a requirement that the Department notify by certified mail the municipality and county in which the surface coal mining operation is located of its final administrative decision to release or not to release all or part of the performance bond.

D. 62 IAC 1840.11 Inspection by the Department

Illinois is withdrawing from its proposed amendment the revision at 62 IAC 1840.11(f)(2) that defined an inactive surface coal mining and reclamation operation as one for which “the Department has determined that the reclamation required for Phase II bond release has been completed.”

III. Public Comment Procedures

We are reopening the comment period on the Illinois program amendment to provide you an opportunity to reconsider the adequacy of the amendment in light of the additional materials sent to us. Under the provisions of 30 CFR 732.17(h), we are requesting comments on whether the amendment satisfies the program approval criteria of 30 CFR 732.15. If we approve the amendment, it will become part of the Illinois program.

Written Comments

We will make comments, including names and addresses of respondents, available for public review during normal business hours. We will not consider anonymous comments. If individual respondents request confidentiality, we will honor their request to the extent allowable by law. Individual respondents who wish to withhold their name or address from public review, except for the city or town, must state this prominently at the beginning of their comments. We will make all submissions from organizations or businesses, and from individuals identifying themselves as representatives or officials of organizations or businesses, available for public review in their entirety.

Your written comments should be specific and pertain only to the issues proposed in this rulemaking. You should explain the reason for any recommended change. In the final rulemaking, we will not necessarily consider or include in the Administrative Record any comments received after the time indicated under DATES or at locations other than the Indianapolis Field Office.

Please submit Internet comments as an ASCII file avoiding the use of special characters and any form of encryption. Please also include “Attn: SPATS No. IL-097-FOR, Part III” and your name and return address in your Internet message. If you do not receive a confirmation that we have received your Internet message, contact the Indianapolis Field Office at (317) 226-6700.

IV. Procedural Determinations

Executive Order 12866

The Office of Management and Budget (OMB) exempts this rule from review under Executive Order 12866 (Regulatory Planning and Review).

Executive Order 12988

The Department of the Interior has conducted the reviews required by section 3 of Executive Order 12988 (Civil Justice Reform) and has determined that, to the extent allowed by law, this rule meets the applicable standards of subsections (a) and (b) of that section. However, these standards are not applicable to the actual language of State regulatory programs and program amendments since each such program is drafted and published by a specific State, not by OSM. Under sections 503 and 505 of SMCRA (30 U.S.C. 1253 and 1255) and 30 CFR 730.11, 732.15, and 732.17(h)(10), decisions on State regulatory programs and program amendments must be based solely on a determination of whether the submittal is consistent with SMCRA and its implementing Federal regulations and whether the other requirements of 30 CFR Parts 730, 731, and 732 have been met.

National Environmental Policy Act

This rule does not require an environmental impact statement since section 702(d) of SMCRA (30 U.S.C. 1292(d)) provides that agency decisions on State regulatory program provisions do not constitute major Federal actions within the meaning of section 102(2)(C) of the National Environmental Policy Act (42 U.S.C. 4332(2)(C)).

Paperwork Reduction Act

This rule does not contain information collection requirements that require approval by OMB under the Paperwork Reduction Act (44 U.S.C. 3507 et seq.).

Regulatory Flexibility Act

The Department of the Interior has determined that this rule will not have a significant economic impact on a substantial number of small entities under the Regulatory Flexibility Act (5 U.S.C. 601 et seq.). The State submittal which is the subject of this rule is based upon corresponding Federal regulations for which an economic analysis was prepared and certification made that such regulations would not have a significant economic effect upon a substantial number of small entities. Therefore, this rule will ensure that existing requirements previously published by OSM will be implemented by the State. In making the determination as to whether this rule would have a significant economic impact, the Department relied upon the data and assumptions for the corresponding Federal regulations.

Unfunded Mandates

OSM has determined and certifies under the Unfunded Mandates Reform Act (2 U.S.C. 1502 et seq.) that this rule will not impose a cost of $100 million or more in any given year on local, state, or tribal governments or private entities.

List of Subjects in 30 CFR Part 913

Intergovernmental relations, Surface mining, Underground mining.

Dated: February 2, 2000.
Charles E. Sandberg,
Acting Regional Director, Mid-Continent Regional Coordinating Center.

[FR Doc. 00-3293 Filed 2-11-00; 8:45 am]

BILLING CODE 4310-05-P